DEPARTMENT OF THE INTERIOR

Fish and Wildlife Service

Notice of Scoping Meetings and Intent To Prepare an Environmental Assessment for the Proposed Designation of a Nonessential Experimental Population of Rio Grande Silvery Minnow; Correction

AGENCY: Fish and Wildlife Service, Interior.

ACTION: Notice of intent; correction.

SUMMARY: We, the U.S. Fish and Wildlife Service (Service), published a notice in the Federal Register on August 3, 2005, with an incorrect date for submitting written comments and an incorrect reference to the time period for the scoping meetings. The document advised the public that a draft environmental assessment will be prepared, pursuant to the National Environmental Policy Act of 1969, as amended, in conjunction with a proposed rule to establish, under section 10(j) of the Endangered Species Act of 1973, as amended, a Nonessential Experimental Population of Rio Grande silvery minnow (Hybognathus amarus) in the Rio Grande in Big Bend National Park and the Rio Grande Wild and Scenic River in Texas.

DATES: See SUPPLEMENTARY INFORMATION under the heading Corrections for the corrected date for submission of comments.

ADDRESSES: Information, comments, or questions related to preparation of the draft environmental assessment and the NEPA process should be submitted to Joy Nicholopoulos, State Administrator, U.S. Fish and Wildlife Service, New Mexico Ecological Services Field Office, 2105 Osuna NE, Albuquerque, New Mexico, 87113. Written comments may also be sent by facsimile to (505) 346-2542 or by e-mail to R2FWE_AL@fws.gov.

FOR FURTHER INFORMATION CONTACT: Jennifer Parody, (505) 761-4710.

SUPPLEMENTARY INFORMATION: On August 3, 2005, a document was published in the Federal Register (70 FR 44681) with an incorrect date for written comment submission and an incorrect reference to the time period for the scoping meetings.

Correction

In the Federal Register of August 3, 2005, in FR Doc. 05-15303 on page 44681, in the first column, correct the DATES caption to read: DATES: Comments must be submitted directly to the Service (see ADDRESSES section) on or before October 7, 2005, or at any of the three scoping meetings to be held in September 2005.

Dated: September 1, 2005.
Craig Manson,
Assistant Secretary for Fish and Wildlife and Parks.

[FR Doc. 05-18160 Filed 9-13-05; 8:45 am]

BILLING CODE 4310-55-P